DEPARTMENT OF DEFENSE

Department of the Army

Notice of Availability of the Final Programmatic Environmental Impact Statement (PEIS) for Army Growth and Force Structure Realignment

AGENCY: Department of the Army, DoD.

ACTION: Notice of availability (NOA).

SUMMARY: The Department of the Army announces the availability of the Final PEIS for the growth and realignment of the U.S. Army. Pursuant to the National Environmental Policy Act (NEPA), the Department of the Army has prepared a PEIS that evaluates the potential environmental and socioeconomic effects associated with alternatives for growing and realigning the Army's force structure. The Army's preferred alternative identified in the Final PEIS is Alternative 3 which will allow the Army to grow and restructure its forces to accommodate modular forces initiatives and critical shortfalls, while adding six Brigade Combat Teams (BCTs) to the Army's end strength. Potential impacts have been analyzed at installations that are being considered for the stationing of 1,000 or more additional Soldiers.

DATES: The waiting period for the final PEIS will end 30 days after publication of an NOA in the Federal Register by the U.S. Environmental Protection Agency.

ADDRESSES: To obtain a copy of the Final PEIS contact: Public Affairs Office, U.S. Army Environmental Command, Building E4460, Attention: IMAE-PA 5179 Hoadley Road, Aberdeen Proving Ground, MD 21010-5401. Questions may also be sent to: PublicComments@aec.apgea.army.mil.

FOR FURTHER INFORMATION CONTACT: Public Affairs Office at (410) 436-2556; facsimile at (410) 436-1693 (during normal business hours Monday through Friday).

SUPPLEMENTARY INFORMATION: The Proposed Action and analysis within the Final PEIS covers those activities needed to increase the Army's end strength and realign its force structure from Fiscal Year 2008 through Fiscal Year 2013 to a size and composition that is better able to meet national security and defense requirements. The Proposed Action involves stationing decisions to align Army forces in support of military transformation, unit equipment and training readiness, and Soldier and Family quality of life needs. To implement the Proposed Action, new units must be stationed at locations that are able to accommodate unit training, garrison operations, maintenance activities, and Soldiers and their Families. In addition, final stationing locations must support the strategic deployment and mobilization requirements of the nation's Combatant Commanders to ensure they will have the forces necessary to support regional contingency operations and planning requirements.

The Final PEIS examines major Army training installations and their ability to support new unit stationing actions in connection with the growth and realignment of the U.S. Army. The Final PEIS provides the Army senior leadership with a hard look at environmental and socioeconomic impacts associated with the Proposed Action and informs the decision-making process for selecting the final stationing locations for new units. This effort includes analysis of specific actions that will need to be taken (such as the construction of housing and quality of life facilities, the construction of new training ranges and infrastructure, and changes in the intensity of use of maneuver land and firing ranges) to station new units as part of the Army's overall efforts to grow and realign the force.

After reviewing a full range of alternative sites, 17 installations capable of supporting the Army's growth and realignment have been evaluated for their ability to support three action alternatives. The installations carried forward for analysis included: Georgia: Fort Benning and Fort Stewart; Texas: Fort Bliss and Fort Hood: North Carolina: Fort Bragg; Kentucky: Fort Campbell and Fort Knox; Colorado: Fort Carson; New York: Fort Drum; California: Fort Hunter-Liggett and Fort Irwin; Washington: Fort Lewis and Yakima Training Center; Louisiana: Fort Polk; Kansas: Fort Riley; New Mexico: White Sands Missile Range; Arizona: Yuma Proving Ground. Each of these installations could receive 1,000 or more additional soldiers as part of alternatives being examined.

Alternatives carried forward for analysis in the Final PEIS included: (1) Implementing Army force structure modifications between Fiscal Year 2008 and Fiscal Year 2013 to support the Army's Modular Transformation and Global Defense Posture Review (GDPR) decisions; (2) Executing those actions discussed as part of Alternative 1 and, in addition, adding approximately 30,000 Combat Support (CS) and Combat Service Support (CSS) soldiers to the Army to address critical shortfalls in high demand military skills in both Active Army and Reserve components; (3) Executing those actions proposed in Alternatives 1 and 2 and, in addition, grow the Army by up to six Active Duty BCTs. Additional BCTs would be stationed at existing or newly established Army stationing locations within the continental United States. In addition to these alternatives, the No Action Alternative is described and its impacts are fully assessed and considered.

The Army's preferred alternative identified in the Final PEIS is to implement Alternative 3. This alternative allows for full support of Army modularity initiatives by adding necessary CS Soldiers to the Army's Active and Reserve components while increasing the size of the Army by six BCTs. Analysis within the Final PEIS covers those activities required to implement unit stationing actions associated with Army growth and realignment.

Site-specific action that will need to be taken to support the preferred alternative include the construction of housing and quality of life facilities (i.e., gymnasiums, hospitals, shopping areas), the construction of new training ranges and infrastructure, and changes in the intensity of use of maneuver land and firing ranges associated with the increased frequency of training events. Stationing decisions made as part of this effort will also consider strategic military and national security considerations. New stationing actions must take place at locations that, if selected, are capable of supporting the National Security Strategy (2006), the Quadrennial Defense Review (QDR 2006), National Military Strategy, and the Army Campaign Plan (ACP).

Direct, indirect, and cumulative impacts of the Proposed Action have been considered in the Final PEIS and identification of the environmental and socioeconomic impacts associated with various unit stationing actions at each of the 17 installations was carried forward for analysis. Impacts at sites would result from construction and training activities related to the growth and realignment of Army forces. Significant impacts to resources could be direct and long term. Decisions from the PEIS will be tiered into site-specific NEPA analyses at the installation level, as specific stationing decisions are determined. The Final PEIS provides Army planners and decision makers with critical and timely information on the capacity and condition of each of the installation's environmental and socioeconomic resources preceding specific stationing actions. The No Action Alternative provides the baseline conditions for comparison to proposed alternatives.

A copy of the Final PEIS can be accessed through the U.S. Army Environmental Command's Web site at (http://www.aec.army.mil).

Dated: October 18, 2007.
Addison D. Davis, IV,
Deputy Assistant Secretary of the Army (Environment, Safety and Occupational Health).

[FR Doc. 07-5290 Filed 10-24-07; 8:45 am]

BILLING CODE 3710-08-M